DEPARTMENT OF TRANSPORTATION

Federal Aviation Administration

14 CFR Part 71

[Docket No. FAA-2003-15246; Airspace Docket No. 2003-ASW-05 (Formerly 2003-ASW-1]

Amendment to Class E Airspace; Angel Fire, NM

AGENCY: Federal Aviation Administration (FAA), DOT.

ACTION: Direct final rule; confirmation of effective date.

SUMMARY: this action revises the Class E airspace area at Angel Fire Airport, Angel Fire, NM (AXX) to provide adequate controlled airspace for the area navigation (RNAV) global positioning system (GPS) standard instrument approach procedure (SIAP).

EFFECTIVE DATE: The direct final rule published at 69 FR 10328, March 5, 2004, is effective 0901 UTC, April 15, 2004.

FOR FURTHER INFORMATION CONTACT: Joseph R. Yadouga, Air Traffic Division, Airspace Branch, Federal Aviation Administration, Southwest Region, Fort Worth, TX 76193-0520; telephone: (817) 222-5597.

SUPPLEMENTARY INFORMATION: The FAA published this direct final rule with a request for comments in the Federal Register on March 5, 2004 (69 FR 10328). The FAA uses the direct final rulemaking procedure for a non-controversial rule where the FAA believes that there will be no adverse public comment. This direct final rule advised the public that no adverse comments were anticipated, and that unless a written adverse comment, or a written notice of intent to submit such an adverse comment, were received within the comment period, the regulation would become effective on April 15, 2004. No adverse comments were received, and thus this notice confirms that this direct final rule will become effective on that date.

Issued in Fort Worth, TX on May 10, 2004.
Donald R. Smith,
Acting Director of Central En Route and Oceanic Area Operations.

[FR Doc. 04-11451 Filed 5-19-04; 8:45 am]

BILLING CODE 4910-13-M